DEPARTMENT OF AGRICULTURE

Forest Service

Klamath National Forest, California, Westpoint

AGENCY: Forest Service, USDA.

ACTION: Notice of intent to prepare an environmental impact statement.

SUMMARY: The Forest Service will prepare an environmental impact statement (the Westpoint Project) on a proposal to treat vegetation using a variety of silvicultural methods on approximately 930 acres of National Forest System lands in the Middle Creek and Scott Bar Mountain areas about 12 miles west of the town of Fort Jones, in Siskiyou County, California. Approximately five miles of classified roads are proposed for decommissioning. Approximately two miles of existing unclassified roads would be added to the transportation system. Activities would likely take place within five years of the decision.

DATES: Comments concerning the scope of the analysis should be received within 30 days of the publication of this notice in the Federal Register. The draft environmental impact statement is expected by November 2006, and the final environmental impact statement is expected by March 2007.

ADDRESSES: Send written comments to Ray Haupt, District Ranger, Scott River Ranger District, 11263 N. Highway 3, Fort Jones, CA 96032.

FOR FURTHER INFORMATION CONTACT: Bill Bailey, Timber Management Officer, at the above address or call (530) 463-5351.

SUPPLEMENTARY INFORMATION:

Purpose and Need for Action

The Westpoint Project analysis area of the Klamath National Forest consists of two separate areas covering approximately 10,900 acres. Both the Scott River and the Siskiyou County Highway 7F01 (Scott River Road) bisect the analysis area into eastern and western portions. The road and river, in this corridor, are used extensively by residents of the town of Scott Bar and private homeowners along the river. Forest recreation visitors use the road as access to Indian Scotty Campground, Jones Beach Day Use Area, and four trailheads into the Marble Mountain Wilderness.

Projects proposed for the entire project area are intended to protect and maintain three important landscape conditions: (1) Northern spotted owl habitat, (2) forest health, and community safety near homes, and (3) old forest structure in the wilderness and late successional reserve. The biggest threat to these important landscape characteristics come from the declining health of the forested landscapes. This decline produces a greater risk from stand-replacing events associated with intense wildfire, insect epidemics, and disease.

The area proposed for treatment is adjacent to late successional reserves to the north and west, and near the Marble Mountain Wilderness area to the northwest. Threats to older forest structure and spotted owl habitat in the Late Successional Reserves and Wilderness, fish habitat in the river and streams, and community safety near homes come from the declining health of the surrounding forested landscapes. This decline produces a greater risk from stand-replacing events associated with intense wildfire, insect epidemics, and disease. The risk of rapid fire spread is generally uphill in this area due to the very steep river canyons. The most likely source of a human-caused ignition is along the river corridor, where homes, recreation, public utility corridors, and public transportation are concentrated at the bottom of this drainage.

Natural fire cycles have been prevented for 100 years in this area by fire suppression activities. Without the beneficial maintenance that these natural low intensity fires provide, actions such as stand-tending and prescribed fire are now needed as a fire replacement technique in the Westpoint Project area to minimize the chance of stand-replacing wildfires. Younger trees and brush, now predominant on this landscape, provide an abundant fuel source, and a “fuel ladder” by which a ground fire will climb into the tree canopy and kill large fire-resistant trees, and unnatural stand-replacing fire situation. These fire entrapment situations significantly increase the risk to both firefighters and the public.

The purpose or objective of taking action in the Westpoint Project area is:

• Improve forest health by returning the vegetation densities on this landscape to more natural historic levels, protect surrounding areas of older forest structure and owl habitat, build more fire resilience into this landscape, and provide wood and job opportunities for local communities through project activities.

• Reduce the occurrence or risk of stand-replacing wildfire.

• Protect public safety and homes by providing safe access for firefighters and the public.

Proposed Action

The Scott River District of the Klamath National Forest proposes that the Westpoint treats vegetation on approximately 930 acres in the general area of Middle Creek Watershed and Scott Bar Mountain about 12 miles west of the community of Fort Jones, California. The vegetation treatment would utilize a variety of silvicultural prescriptions. Tractor, cable, and helicopter logging methods would be used, with cable as the predominant method. Project-generated fuels would be treated through a combination of methods.

All Shasta red fir, white fir, and hemlock stumps would be hand treated with the fungicide Sporax® to reduce the spread of fungus Heterobasidion annosum (Fomes annosus).

Openings created from group selection and green tree retention prescriptions would be planted and baiting for pocket gophers. Baiting application method would consist of probing and/or spooning method of below-ground application of strychnine.

There would be no new classified road construction. Approximately five miles of classified roads are proposed for decommissioning in this project design. About two miles of new unclassified roads would be used, then closed and hydrologically restored. Around two miles of existing unclassified roads would be upgraded and added to the National Forest System road system. About 12 miles of road are proposed for maintenance level changes (seasonal road closures).

The legal description for the proposal is Township 44 North, Range 10 West, Section 6; Township 44 North, Range 11 West, Section 1-18, 21-26, and 27; Township 44 North, Range 12 West, Sections 1 and 12; Township 45 North, Range 11 West, Section 31; and Township 45 North, Range 12 West, Section 36, Mount Diablo Meridian. All activities would likely be completed within five years of the decision being made.

Nature of Decision To Be Made

The Forest Service must decide whether it will implement this project; implement an alternative that meets the purpose and need; or not implement any project at this time.

Responsible Official

Margaret Boland, Forest Supervisor, USDA Forest Service, 1312 Fairlane Road, Yreka, California 96097 is the Responsible Official.

Scoping Process

In the winter of 2002, scoping for an environmental assessment for a similar project in the same analysis area was initiated and included in the Klamath National Forest's Winter 2002 Schedule of Proposed Actions, which was posted on the Klamath National Forest's Internet Web site and mailed to interested parties. In March 2002, a scoping letter was sent to potentially affected individuals and anyone who expressed interest in the proposal. The original decision was invalidated by Judge Shubb in May 2005, with direction to proceed with an environmental impact statement. In the spring of 2006, scoping for this environmental impact statement was initiated and included in the Spring 2006 Schedule of Proposed Actions and posed on the Klamath National Forest's Internet Web site and mailed to interested parties. This project is similar to the previous proposal; however, suggestions from the public helped to define this proposal.

This Notice of Intent invites additional public comment on this proposal and initiated the preparation of the environmental impact statement. Due to the extensive scoping effects already conducted, no scoping meeting is planned. The public is encouraged to take part in the planning process and to visit with Forest Service officials at any time during the analysis and prior to the decision.

Comment Requested

This notice of intent initiates the scoping process, which guides the development of the environmental impact statement. While public participation in this analysis is welcome at any time, comments received within 30 days of the publication of this notice will be especially useful in the preparation of the draft environmental impact statement. The scoping process will include identifying potential issues, significant issues to be analyzed in depth, alternatives to the proposed action, and potential environmental effects of the proposal and alternatives.

Early Notice of Importance of Public Participation in Subsequent Environmental Review

The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received in response to this scoping notice as well as comments received on the subsequent draft environmental impact statement, including the names and addresses of those who comment, will be considered part of the public record on this proposal and will be available for public inspection.

(Authority: 40 CFR 1501.7 and 1508.22; Forest Service Handbook 1909.15, Section 21)
Dated: June 6, 2006.
Margaret J. Boland,
Forest Supervisor, Klamath National Forest.

[FR Doc. 06-5628 Filed 6-22-06; 8:45 am]

BILLING CODE 3410-11-M